DEPARTMENT OF THE TREASURY

Office of Foreign Assets Control

Notice of OFAC Sanctions Action

AGENCY: Office of Foreign Assets Control, Department of the Treasury.

ACTION: Notice.

SUMMARY: The U.S. Department of the Treasury's Office of Foreign Assets Control (OFAC) is publishing the names of one or more persons whose property and interests in property have been unblocked and who have been removed from OFAC's Specially Designated Nationals and Blocked Persons List (SDN List).

DATES: This action was issued on November 4, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov/.

Notice of OFAC Action

On November 4, 2025, OFAC determined that the property and interests in property subject to U.S. jurisdiction of the following person, sanctioned pursuant to Executive Order 14038 of August 9, 2021 (“Blocking Property of Additional Persons Contributing to the Situation in Belarus” hereinafter “E.O. 14038”), are unblocked and they have been removed from the SDN List.

Entity

1. OPEN JOINT STOCK COMPANY BELAVIA BELARUSIAN AIRLINES (a.k.a. BELAVIA BELARUSIAN AIRLINES; a.k.a. JOINT STOCK COMPANY AVIACOMPANY BELAVIA; a.k.a. OAO AVIAKOMPANIYA BELAVIA (Cyrillic: ОАО АВИАКОМПАНИЯ БЕЛАВИА)), 14A, Nemiga str., Minsk 220004, Belarus; Tax ID No. 600390798 (Belarus); Government Gazette Number 011286185000 (Belarus) [BELARUS-EO14038].

Aircraft

1. EW-301PJ; Aircraft Model CRJ-200ER; Aircraft Manufacturer's Serial Number (MSN) 8057; Aircraft Tail Number EW-301PJ (aircraft) [BELARUS-EO14038] (Linked To: OPEN JOINT STOCK COMPANY BELAVIA BELARUSIAN AIRLINES).

Bradley T. Smith,
Director, Office of Foreign Assets Control.

[FR Doc. 2025-20299 Filed 11-18-25; 8:45 am]

BILLING CODE 4810-AL-P